DEPARTMENT OF HEALTH AND HUMAN SERVICES

National Institutes of Health

National Institute on Aging; Amended Notice of Meeting

Notice is hereby given of a change in the meeting of the National Advisory Council on Aging, September 10, 2019, 3:00 p.m. to September 11, 2019, 1:00 p.m., National Institutes of Health, Neuroscience Center Building (NSC), North Bethesda, 6001 Executive Boulevard, Rockville, MD 28052 which was published in the Federal Register on February 15, 2019, 84 FR 4503.

The meeting notice is amended to change the previously listed incorrect institution name from NATIONAL INSTITUTE OF GENERAL MEDICAL SCIENCES to NATIONAL INSTITUTE ON AGING. The meeting is partially Closed to the public.

Dated: May 1, 2019.
Melanie J. Pantoja,
Program Analyst, Office of Federal Advisory Committee Policy.

[FR Doc. 2019-09200 Filed 5-3-19; 8:45 am]

BILLING CODE 4140-01-P